DEPARTMENT OF COMMERCE

National Oceanic and Atmospheric Administration

[I.D. 102402B]

Gulf of Mexico Fishery Management Council; Public Meetings

AGENCY: National Marine Fisheries Service (NMFS), National Oceanic and Atmospheric Administration (NOAA), Commerce.

ACTION: Notice of public meeting.

SUMMARY: The Gulf of Mexico Fishery Management Council (Council) will convene public meetings.

DATES: The meetings will be held on November 12-15, 2002.

ADDRESSES: These meetings will be held at the Westin Beach Resort, 97000 South Overseas Highway, Key Largo, FL 33037; telephone: 305-852-5553.

Council address:Gulf of Mexico Fishery Management Council, 3018 U.S. Highway 301 North, Suite 1000, Tampa, FL 33619.

FOR FURTHER INFORMATION CONTACT: Wayne E. Swingle, Executive Director, Gulf of Mexico Fishery Management Council; telephone: (813) 228-2815.

SUPPLEMENTARY INFORMATION:

Council

November 14

8:30 a.m.—Convene.

8:45 a.m.zn-9 a.m.—Appointment of Committee Members

9 a.m.-9:15 a.m.—Election of Vice Chairman

9:15 a.m.-;11:30 a.m.—Receive public testimony on the Secretarial Reef Fish Amendment 2.

1 p.m.-4 p.m.—Receive the report of the Habitat Protection Committee.

4 p.m.-5 p.m.—Receive the report of the Shrimp Management Committee.

November 15

8:30 a.m.-11 a.m.—Receive the report of the Reef Fish Management Committee.

11 a.m.-11:30 a.m.—Receive the report of the Joint Reef Fish and Artificial Reef Committees.

11:30 a.m. - 11:40 a.m. -Receive the International Commission for the Conservation of Atlantic Tunas Meeting report.

11:40 a.m.-11:50 a.m.-Receive Enforcement Reports.

11:50 a.m.-12 noon—Receive the NMFS Regional Administrator's Report.

12 noon-12:15 p.m.—Receive Director's Reports.

12:15 p.m.-12:30 p.m.—Other Business.

Committees

November 12, 2002

8:30 a.m.-12:30 p.m.—Convene the Habitat Protection Committee to review and comment on the Draft Environmental Impact Statement (DEIS) for the Essential Fish Habitat (EFH) Generic Amendment. The committee will also consider the recommendations of Technical and User Review Panels, Habitat Protection Advisory Panels (APs) and the Scientific and Statistical Committee (SSC). The Council will take final action on the DEIS in January 2003 and file the DEIS with the Environmental Protection Agency (EPA).

2 p.m.-5:30 p.m.—Convene the Reef Fish Management Committee to make its final recommendations to the Council on Secretarial Reef Fish Amendment 2 for amberjack. The amendment contains a rebuilding program for greater amberjack, which is largely based on actions previously taken by the Council in 2000 and 2001 for reducing the recreational bag limits to 1 fish and implementing a 3-month commercial closure. The committee will review new stock assessments on red and yellowedge grouper, but will defer taking action on this information to the January 2003 meeting. The committee will review comments from scoping meetings on Reef Fish Amendment 21 related to extending the duration of rules establishing the Madison/Swanson and Steamboat Lumps marine reserves. The Council will take final action on this amendment in May 2003. The committee will also review a draft red snapper individual fishing quota profile and recommend changes to the Council. The profile when completed will be submitted by NMFS to fishermen for comments in a referendum conducted by NMFS. The committee will discuss with enforcement officials possible causes of violations of the reef fish bottom longline prohibited area in the western Gulf and potential remedies.

November 13, 2002

8:30 a.m.-9:30 a.m—Convene a joint meeting of the Reef Fish Management and Artificial Reef Committees to consider whether the Council should consider holding workshops to discuss establishing special management zones (SMZs) off Alabama where the number of hooks fished per line may be limited. If approved, these workshops will be scheduled in 2003.

9:30 a.m.-11:30 a.m.—Convene the Shrimp Management Committee to review scoping comments on an options paper that eventually will become Shrimp Amendment 13. The draft amendment will address adding rock shrimp to the fishery management plan, alternatives to improve bycatch estimates, alternatives for reducing bycatch, the need for Vessel Monitoring Systems, and alternatives that could reduce effort.

11:45 a.m.-6 p.m.—Council members will visit the U.S. Coast Guard air station and bases in the Miami area for an orientation and training session.

Although non-emergency issues not contained in the agenda may come before the Council for discussion, in accordance with the Magnuson-Stevens Fishery Conservation and Management Act (Magnuson Act), those issues may not be the subject of formal Council action during this meeting. Council action will be restricted to those issues specifically identified in this notice and any issues arising after publication of this notice that require emergency action under section 305 (c) of the Magnuson Act, provided the public has been notified of the Council's intent to take final action to address the emergency. A copy of the Committee schedule and agenda can be obtained by calling (813) 228-2815.

Special Accommodations

These meetings are physically accessible to people with disabilities. Requests for sign language interpretation or other auxiliary aids should be directed to Anne Alford at the Council (see ADDRESSES) by November 4, 2002.

Dated: October 24, 2002.
Richard W. Surdi,
Acting Director, Office of Sustainable Fisheries, National Marine Fisheries Service.

[FR Doc. 02-27510 Filed 10-28-02; 8:45 am]

BILLING CODE 3510-22-S